ENVIRONMENTAL PROTECTION AGENCY

[FRL-8487-3]

Clean Water Act Section 303(d): Availability of 34 Total Maximum Daily Loads (TMDL) in Louisiana

AGENCY: Environmental Protection Agency (EPA).

ACTION: Notice of availability.

SUMMARY: This notice announces the availability for comment of the administrative record files for 34 TMDLs and the calculations for these TMDLs prepared by EPA Region 6 for waters listed in the Red, Sabine, and the Terrebonne Basins of Louisiana, under section 303(d) of the Clean Water Act (CWA). These TMDLs were completed in response to a court order in the lawsuit styled Sierra Club, et al. v. Clifford, et al., No. 96-0527, (E.D. La.).

DATES: Comments must be submitted in writing to EPA on or before November 26, 2007.

ADDRESSES: Comments on the 34 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 34 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes 26 of these TMDLs pursuant to a consent decree entered in this lawsuit.

EPA Seeks Comment on 34 TMDLs

By this notice EPA is seeking comment on the following 34 TMDLs for waters located within Louisiana basins:

Subsegment | Waterbody name | Pollutant
100406 | Flat River—Headwaters to Loggy Bayou | Nutrients and Dissolved Oxygen.
100501 | Bayou Dorcheat—Arkansas State Line to Lake Bistineau (scenic) | Dissolved Oxygen and Mercury.
100601 | Bayou Pierre—Headwaters to Sawing Lake | Nutrients and Dissolved Oxygen.
100602 | Boggy Bayou—Headwaters to Wallace Lake | Nutrients and Dissolved Oxygen.
100702 | Black Lake Bayou—Webster-Bienville Parish Line | Dissolved Oxygen.
100703 | Black Lake and Clear Lake | Dissolved Oxygen.
100803 | Saline Bayou—From Saline Lake to Red River | Dissolved Oxygen.
101301 | Rigolette Bayou—Headwaters to Red River | Dissolved Oxygen.
101302 | Iatt Lake | Dissolved Oxygen.
101604 | Lake Concordia | Dissolved Oxygen.
110401 | Bayou Toro—Headwaters to LA Hwy. 473 | Dissolved Oxygen.
120102 | Bayou Poydras | Nutrients and Dissolved Oxygen.
120103 | Bayou Choctaw | Nutrients, Nitrogen, Phosphorus, and Dissolved Oxygen.
120105 | Chamberlin Canal | Nutrients, Nitrogen, Phosphorus, and Dissolved Oxygen.
120106 | Bayou Plaquemine—Plaquemine Lock to Intracoastal Waterway | Nutrients and Dissolved Oxygen.
120107 | Upper Grand River and Lower Flat River—Headwaters to Intra­coastal­Waterway | Dissolved Oxygen.
120109 | Intracoastal Waterway—Morgan City to Port Allen Route—Port Allen Locks to Bayou Sorrel Locks | Nutrients and Dissolved Oxygen.
120110 | Bayou Cholpe—Headwaters to Bayou Choctaw | Dissolved Oxygen.
120206 | Grand Bayou and Little Grand Bayou—Headwaters to Lake Varret | TSS.
120205 | Lake Palourde | pH.
120402 | Bayou Chene—From Intracoastal Waterway to Bayou Penchant Navigation Canal to Terrebonne Bay | pH.

EPA requests that the public provide to EPA any water quality related data and information that may be relevant to the calculations for the 34 TMDLs. EPA will review all data and information submitted during the public comment period and revise the TMDLs where appropriate. EPA will then forward the TMDLs to the Louisiana Department of Environmental Quality (LDEQ). The LDEQ will incorporate the TMDLs into its current water quality management plan.

Dated: October 17, 2007.
William K. Honker,
Deputy Director, Water Quality Protection Division, EPA Region 6.

[FR Doc. E7-21063 Filed 10-24-07; 8:45 am]

BILLING CODE 6560-50-P